DEPARTMENT OF STATE

[Public Notice: 9569]

Notice of Meeting of Advisory Committee on International Law

A meeting of the Department of State's Advisory Committee on International Law will take place on Tuesday, May 24, from 9:30 a.m. to 5:00 p.m. at the George Washington University Law School, Michael K. Young Faculty Conference Center, 716 20th Street NW., 5th Floor, Washington, DC. Legal Adviser Brian Egan will chair the meeting, which will be open to the public up to the capacity of the conference room. The meeting will include discussions on a variety of international law topics. This notice is being published with less than 15 days' notice as a result of delays in receiving information relevant to the make-up and structure of the newly rechartered Committee. Further, it is important that this meeting take place in advance of certain upcoming diplomatic engagements.

Members of the public who wish to attend or request reasonable accommodation should contact the Office of the Legal Adviser by May 22 at simcockjc@state.gov or (202) 776-8477 and provide their name, professional affiliation, address, and phone number. A valid photo ID is required for admission to the meeting. Late requests will be considered but might not be possible to accommodate.

Dated: May 13, 2016.
Julian Simcock,
Attorney-Adviser, Office of the Legal Adviser, Executive Director, Advisory Committee on International Law, United States Department of State.

[FR Doc. 2016-11885 Filed 5-18-16; 8:45 am]

BILLING CODE 4710-08-P